DEPARTMENT OF DEFENSE

Department of the Navy

Notice of Public Meetings for the Supplement to the Draft Environmental Impact Statement/Overseas Environmental Impact Statement (EIS/OEIS) for a Proposal To Enhance Training, Testing, and Operational Capability Within the Hawaii Range Complex (HRC)

AGENCY: Department of the Navy, DoD.

ACTION: Notice.

SUMMARY: Pursuant to section 102(2)(c) of the National Environmental Policy Act (NEPA) of 1969 and regulations implemented by the Council on Environmental Quality (40 CFR Parts 1500-1508), and Presidential Executive Order 12114, the Department of the Navy (Navy) prepared and filed with the U.S. Environmental Protection Agency on February 15, 2008, a Supplement to the Draft EIS/OEIS for a Proposal to Enhance Training, Testing, and Operational Capability within the HRC. The Supplement to the Draft EIS/OEIS evaluates the potential for behavioral harassment of marine mammals incidental to the use of mid-frequency active sonar during Navy training and testing within the HRC. The methodology used in the Supplement is a modification of the methodology previously used in the Draft EIS/OEIS. The Supplement to the Draft EIS/OEIS also addresses a change in the number of sonar hours for each of the alternatives and the potential effects of an additional alternative. A Notice of Intent for the Supplement to the Draft EIS/OEIS was published in the Federal Register on January 17, 2008 (73 FR 3242).

The Navy will conduct four public meetings to received oral and written comments on the Supplement to the Draft EIS/OEIS. Federal agencies, State agencies, and interested individuals are invited to be present or represented at the public meetings. This notice announces the dates and locations of public meetings for the Supplement to the Draft EIS/OEIS.

Dates and Addresses: Information sessions and receipt of public comments will be held at each of the locations listed below between 5 p.m. to 9 p.m. The information sessions will allow individuals to review the Supplement to the Draft EIS/OEIS in an open house format. Navy and NMFS representatives will be available during the information sessions to clarify information related to the Supplement to the Draft EIS/OEIS. Oral comments from the public will also be taken during the session. Public meetings will be held on the following dates and at the following locations in Hawaii:

1. March 13, 2008 at the Kauai Community College Cafeteria, 3-1901 Kaumualii Highway, Lihue, Kauai;

2. March 14, 2008 at Maui Waena Intermediate School 795 Onehee Avenue, Kahului, Maui;

3. March 17, 2008 at Disabled American Veterans Hall 2685 North Nimitz Highway, Honolulu, Oahu;

4. March 18, 2008, Hilo Hawaiian Hotel, 71 Banyan Drive, Hilo, Hawaii.

FOR FURTHER INFORMATION CONTACT: Public Affairs Officer, Pacific Missile Range Facility, P.O. Box 128, Kekaha, Kauai, Hawaii, 96752-0128, ATTN: HRC EIS/OEIS, voice mail 1-866-767-3347, facsimile 808-335-4520.

SUPPLEMENTARY INFORMATION: The Navy previously conducted public hearings on the Draft EIS/OEIS in August 2007 following publication of the Notice of Availability in the Federal Register on July 27, 2007 (72 FR 41324). Since the publication of the Draft EIS/OEIS, Navy, in coordination with NMFS, has conducted a re-evaluation of the analysis concerning the analytical methodology used in the July 2007 document to assess the potential for behavioral harassment of marine mammals incidental to the use of mid-frequency active sonar during Navy training and testing. Modifications to this analytical methodology have led Navy to determine that the preparation of a Supplement to the Draft EIS/OEIS is appropriate. Besides the modifications to the analytical methodology, the Supplement to the Draft EIS/OEIS incorporates changes in sonar hours for each alternative. The Supplement also includes the evaluation of the potential effects of a new alternative. Alternative 3 (which is also identified as the Navy's preferred alternative) includes all of the training and testing activities identified for Alternative 2, but with reduced mid-frequency sonar hours (the same number of sonar hours identified for the No-action Alternative).

The Proposed Action assessed in the Supplement to the Draft EIS/OEIS is unchanged from the Draft EIS/OEIS and involves increasing the usage and enhancing the capabilities of the HRC with the purpose of achieving and maintaining Fleet readiness and to conduct current, emerging, and future training and research, development, test, and evaluation (RDT&E) operations. This action is consistent with U.S. Code Title 10, section 5062.

The Supplement to the Draft EIS/OEIS has been distributed to various Federal, State, and local agencies, as well as other interested individuals and organizations. Additionally, copies of the Supplement to the Draft EIS/OEIS have been distributed to the following libraries in Hawaii for public review: Kahului Public Library, 90 School Street, Kahului, Maui, Hawaii 96732; Wailuku Public Library, 251 High Street, Wailuku, Maui, Hawaii 96793; Hilo Public Library, 300 Waianuenue Avenue, Hilo, Hawaii, Hawaii 96720; Hawaii State Library, Hawaii and Pacific Section Document Unit, 478 South King Street, Honolulu, Oahu, Hawaii 96813-2994; Lihue Public Library, 4344 Hardy Street, Lihue, Kauai, Hawaii 96766; Waimea Public Library, P.O. Box 397, Waimea, Kauai, Hawaii 96766; Princeville Public Library, 4343 Emmalani Drive, Princeville, Kauai, Hawaii 96722.

An electronic copy of both the Supplement and the Draft EIS/OEIS are also available for public viewing at: http://www.govsupport.us/hrc. Single copies of the Supplement to the Draft EIS/OEIS are available upon written request by contacting Public Affairs Officer, Pacific Missile Range Facility, P.O. Box 128, Kekaha, Kauai, Hawaii, 96752-0128, ATTN: HRC EIS/OEIS, voice mail 1-866-767-3347, facsimile 808-335-4520.

Federal, State, and local agencies and interested parties are invited to be present or represented at the public meetings. Written comments can also be submitted during these meetings. Oral statements will either recorded or be heard and transcribed by a stenographer. All statements, both oral and written, will become part of the public record on the Supplement to the Draft EIS/OEIS and will be addressed in the Final EIS/OEIS. Equal weight will be given to both oral and written statements.

In the interest of available time, and to ensure all who wish to give an oral statement at the public meetings have the opportunity to do so, each speaker's comments will be limited to three (3) minutes. If a long statement is to be presented, it should be summarized at the public meeting and the full text submitted in writing either at the meeting or mailed to Public Affairs Officer, Pacific Missile Range Facility, P.O. Box 128, Kekaha, Kauai, Hawaii, 96752-0128, ATTN: HRC EIS/OEIS, faxed to 808-335-4520, or submitted via e-mail to deis_hrc@govsupport.us.

All written comments must be post marked or received by April 7, 2008, to ensure they become part of the official record. All comments will be addressed in the Final EIS/OEIS.

Dated: February 20, 2008.
T.M. Cruz,
Lieutenant, Office of the Judge Advocate General, U.S. Navy, Federal Register Liaison Officer.

[FR Doc. E8-3633 Filed 2-25-08; 8:45 am]

BILLING CODE 3810-FF-P